DEPARTMENT OF COMMERCE

National Oceanic and Atmospheric Administration

50 CFR Part 600

[Docket No. 071220872-0093-04]

RINs 0648-AS71 and 0648-AU71

Magnuson-Stevens Act Provisions; Correction

AGENCY: National Marine Fisheries Service (NMFS), National Oceanic and Atmospheric Administration (NOAA), Commerce.

ACTION: Final rule; correcting amendment.

SUMMARY: This rule amends general provisions for domestic fisheries in the western Pacific to correct errors that resulted from two recent rules. This action is necessary to remedy missing information, out of date administrative references, and a misspelling.

DATES: Effective March 3, 2010.

FOR FURTHER INFORMATION CONTACT: Bob Harman, Pacific Islands Region, NMFS, 808 944-2271.

SUPPLEMENTARY INFORMATION: On November 21, 2008, NMFS published in the Federal Register a final rule (73 FR 70600) designating three species of pelagic squid as management unit species under the Fishery Management Plan for Pelagic Species of the Western Pacific Region (FMP). That rule also established permitting and reporting requirements, and authorization for NMFS to place observers on squid fishing vessels. This final rule was effective December 22, 2008, except for the collection-of-information requirements, which were effective October 5, 2009 (74 FR 45756, September 4, 2009).

The final rule that included squid jig fishing in the FMP inadvertently omitted an instruction to revise the table of authorized fishing gear at 50 CFR 600.725(v). The rule established squid as management unit species in the definition of western Pacific pelagic management unit species (50 CFR 665.800). The rule authorized squid jig fishing (50 CFR 665.801(g)), and defined squid jig gear (50 CFR 665.800). The rule also set restrictions on the use of squid jig gear (50 CFR 665.14(b), 665.808, and 665.802(zz)). By these actions, squid jig gear and fishing are authorized and managed. However, the rule did not include this authorized fishing gear in the table at 50 CFR 600.725(v), which provides a complete list of all authorized fishing gear in the FEPs. The rule should have added an entry to include squid jig as an authorized gear in the squid jig fishery in item 7 (western Pacific pelagic fisheries in the FMP) of section VIII (fisheries under the jurisdiction of the Western Pacific Fishery Management Council) in that table. This final rule corrects that error, and no substantive changes are made to the regulations.

Additionally, on January 14, 2010, NMFS published in the Federal Register a final rule (75 FR 2198) restructuring western Pacific fishery regulations at 50 CFR part 665 to be consistent with five new area-specific fishery ecosystem plans (FEP). The FEPs were established as FMPs, consistent with the Magnuson-Stevens Fishery Conservation and Management Act. In that rule, no substantive changes were made to the regulations. NMFS also restructured western Pacific regulations to be consistent with the area-specific organization of the FEPs, and changed administrative references in western Pacific regulations from “FMP” to “FEP.” That final rule was effective February 16, 2010.

That final rule inadvertently omitted an instruction to revise the table of authorized fishing gear at 600.725(v) to change references from “FMP” to “FEP” in section VIII (fisheries under the jurisdiction of the Western Pacific Fishery Management Council). This final rule corrects those administrative references; no substantive changes are made to the regulations.

This rule also corrects the spelling of the word “fishery,” which was misspelled as “fisher” in item 7.A of section VIII of the table.

Classification

Pursuant to 5 U.S.C. 553(b)(B), the Assistant Administrator for Fisheries, NOAA, (AA) finds good cause to waive prior notice and opportunity for public comment, as such notice and comment would be unnecessary. These procedures are unnecessary because the regulations were subject to notice and comment when originally implemented, and no substantive changes are being made pursuant to this final rule. The only actions currently being taken are to remedy missing or incorrect administrative information. Pursuant to 5 U.S.C. 553(d), the 30-day delay in effectiveness does not apply to this rule because it is not a substantive rule.

Because notice and opportunity for comment are not required pursuant to 5 U.S.C. 553, or any other law, the analytical requirements of the Regulatory Flexibility Act are inapplicable. Therefore, a final regulatory flexibility analysis is not required and one has not been prepared. This rule is exempt from review under Executive Order 12866.

List of Subjects in 50 CFR Part 600

Authorized fishing gear, Fisheries, Fishing, Western Pacific.

Dated: February 25, 2010.
Eric C. Schwaab,
Assistant Administrator for Fisheries, National Marine Fisheries Service.

For the reasons set out in the preamble, 50 CFR part 600 is correctly amended as follows:

PART 600—MAGNUSON-STEVENS ACT PROVISIONS

1. The authority citation for part 600 continues to read as follows:

Authority: 16 U.S.C. 1801 et seq.

2. In the table at § 600.725(v), revise the entries in section VIII for western Pacific Fisheries to read as follows:

§ 600.725. General prohibitions.

(v) * * *

Fishery | Authorized gear types
* * * * * |
VIII. Western Pacific Fishery Management Council |
1. Western Pacific Crustacean Fishery (FMP) (Fishery Ecosystem Plan, FEP) | Trap, hand harvest, hoop net.
2. Western Pacific Crustacean Fishery (Non-FEP): |
A. Commercial fishery | A. Gillnet, hand harvest, hoop net, spear, snare, trap, trawl.
B. Recreational fishery | B. Gillnet, hand harvest, hoop net, spear, snare, trap.
C. Charter fishery | C. Hand harvest, spear.
3. Western Pacific Precious Corals Fishery (FEP): |
A. Tangle net dredge fishery | A. Tangle net dredge.
B. Submersible fishery | B. Submersible.
C. Dive fishery | C. Hand harvest.
D. Recreational fishery | D. Hand harvest.
4. Western Pacific Precious Corals Fishery (Non-FEP) | Hand harvest, submersible, tangle net dredge.
5. Western Pacific Bottomfish and Seamount Groundfish Fishery (FEP): |
A. Bottomfish hook-and-line fishery | A. Bandit gear, buoy gear, handline, hook and line, rod and reel, hand harvest.
B. Seamount groundfish fishery | B. Longline, trawl.
C. Bottom longline fishery | C. Longline, hook and line.
D. Trap fishery | D. Trap.
E. Spear fishery | E. Spear, powerhead.
6. Western Pacific Bottomfish and Seamount Groundfish Fishery (Non-FEP): |
A. Commercial fishery | A. Bandit gear, buoy gear, gillnet, handline, hook-and-line, longline, rod and reel, spear, trap.
B. Recreational fishery | B. Bandit gear, buoy gear, Gillnet, handline, hook and line, longline, rod and reel, spear, trap, slurp gun, hand harvest.
C. Charter fishery | C. Bandit gear, buoy gear, handline, hook-and-line, rod and reel, spear.
7. Western Pacific Pelagics Fishery (FEP): |
A. Longline Fishery | A. Longline.
B. Hook and line fishery | B. Bandit gear, buoy gear, handline, hook and line, rod and reel.
C. Purse seine fishery | C. Lampara net, purse seine.
D. Spear fishery | D. Spear, powerhead.
E. Squid jig fishery | E. Squid jig.
8. Western Pacific Pelagics Fishery (Non-FEP): |
A. Recreational fishery | A. Bandit gear, buoy gear, dip net, handline, hook and line, hoop net, powerhead, rod and real, spear.
B. Commercial fishery | B. Bandit gear, buoy gear, dip net, handline, hook and line, hoop net, powerhead, rod and reel, spear.
C. Charter fishery | C. Bandit gear, buoy gear, dip net, handline, hook and line, hoop net, powerhead, rod and reel, spear.
9. Western Pacific Coastal Pelagics Fishery (Non-FEP) | Bandit gear, buoy gear, dip net, gillnet, handline, hook and line, hoop net, lampara net, purse seine, rod and reel, spear.
10. Western Pacific Squid and Octopus Fishery (Non-FEP) | Bandit gear, hand harvest, hook and line, rod and reel, spear, trap.
11. Western Pacific Coral Reef Fishery (Non-FEP) | Allowable chemical, barrier net, dip net, gillnet, hand harvest, seine, slurp gun, trap, spear, rod and reel, hook and line.
12. Recreational Fishery (Non-FEP) | Rod and reel, hook and line, handline, hand harvest, spear.
13. Commercial Fishery (Non-FEP) | Trawl, gillnet, hook and line, longline, handline, rod and reel, bandit gear, cast net, spear.
* * * * * |

[FR Doc. 2010-4397 Filed 2-26-10; 4:15 pm]

BILLING CODE 3510-22-S